FEDERAL COMMUNICATIONS COMMISSION

Sunshine Act Meeting; Open Commission Meeting Thursday, February 10, 2005

February 3, 2005.

The Federal Communications Commission will hold an Open Meeting on the subjects listed below on Thursday, February 10, 2005, which is scheduled to commence at 9:30 a.m. in Room TW-C305, at 445 12th Street, SW., Washington, DC.

Item No. | Bureau | Subject
1 | Media | Title: Carriage of Digital Television Broadcast Signals: Amendments to part 76 of the Commission's Rules (CS Docket No. 98-120).
|  | Summary: The Commission will consider a Second Report and Order and First Order on Reconsideration concerning the carriage obligations of cable operators with respect to digital broadcasters.
2 | Media | Title: WRGT Licensee, LLC for Assignment of License of WRGT-TV, Dayton, Ohio, to WRGT Licensee, LLC (New Nevada, LLC); WVAH Licensee, LLC for Assignment of License of WVAH-TV, Charleston, West Virginia, to WVAH Licensee, LLC (New Nevada, LLC); WTAT Licensee, LLC for Assignment of License of WTAT-TV, Charleston, South Carolina, to WTAT Licensee, LLC (New Nevada, LLC); Cunningham Broadcasting Corp. (Transferor) and Sinclair Acquisition XIII, Inc. (Transferee) for consent to transfer of control of television station WTTE-TV, Columbus, Ohio; Cunningham Broadcasting Corp. (Transferor) and Sinclair Acquisition XIII, Inc. (Transferee) For consent to transfer of control of television station WNUV-TV, Baltimore, Maryland.
|  | Summary: The Commission will consider a Memorandum Opinion and Order concerning an Application for Review filed by various licensee subsidiaries of Sinclair Broadcast Group, Inc. seeking review of a decision by the Media Bureau dismissing applications through which Sinclair sought to acquire television stations from the licensee subsidiaries of Cunningham Broadcasting Corporation.
3 | Consumer & Governmental Affairs | Title: Rules and Regulations Implementing the Telephone Consumer Protection Act of 1991 (CG Docket No. 02-278).
|  | Summary: The Commission will consider a Second Order on Reconsideration addressing petitions for reconsideration filed regarding the national do-not-call registry and other TCPA rules.
4 | Consumer & Governmental Affairs | Title: Rules and Regulations Implementing Minimum Customer Account Record Exchange Obligations on All Local and Interexchange Carriers (CG Docket No. 02-386).
|  | Summary: The Commission will consider a Report and Order and Further Notice of Proposed Rulemaking regarding the mandatory exchange of customer account information among all local and interexchange carriers.
5 | International | Title: Flexibility for Delivery of Communications by Mobile Satellite Service Providers in the 2 GHz Band, the L-Band, and the 1.6/2.4 GHz Bands (IB Docket No. 01-185).
|  | Summary: The Commission will consider a Memorandum Opinion and Order and Second Order on Reconsideration concerning the rules that permit the addition of ancillary terrestrial components (ATC) to the provision of Mobile-Satellite Service (MSS) communications.
6 | Wireless-Tele-Communications | Title: Amendment of part 90 of the Communications Commission's Rules for Flexible Use of the 896-901 MHz and 935-940 MHz Bands Allotted to Business and Industrial Land Transportation Pool; Oppositions and Petitions for Reconsideration of 900 MHz Band Freeze Notice.
|  | Summary: The Commission will consider a Notice of Proposed Rulemaking concerning the use of “white space” in the 900 MHz Business and Industrial Land Transportation Pool.
7 | Wireless Broadband Access Task Force | The Wireless Broadband Access Task Force will report on its findings and recommendations relating to the Commission's wireless broadband policies (GN Docket No. 04-163).
8 | Wireline Competition | Title: Presubscribed Interexchange Carrier Charges Competition (CC Docket No. 02-53).
|  | Summary: The Commission will consider a Report and Order that will address the Commission's policies governing the federally-tariffed charges of incumbent LECs for changing the presubscribed interexchange carrier for end user subscribers (PIC change charges).
9 | Wireline Competition | Title: Developing a Unified Intercarrier Compensation Regime; Sprint Petition for Declaratory Ruling Regarding Obligation of Incumbent LECs to Load Numbering Resources and Honor Routing and Rating Points; T-Mobile et al. Petition for Declaratory Ruling Regarding Incumbent LEC Wireless Termination Tariffs (CC Docket No. 01-92).
|  | Summary: The Commission will consider a Report and Order and Further Notice of Proposed Rulemaking that resolves a number of issues regarding application of the Commission's intercarrier compensation rules and solicits comment on a number of reform proposals submitted by the industry as well as other issues related to intercarrier compensation reform.

The meeting site is fully accessible to people using wheelchairs or other mobility aids. Sign language interpreters, open captioning, and assistive listening devices will be provided on site. Request other reasonable accommodations for people with disabilities as early as possible. Last minute requests will be accepted, but may be impossible to fill. Send an e-mail to: fcc504@fcc.gov or call the Consumer & Governmental Affairs Bureau at (202) 418-0530 (voice), (202) 418-0432 (TTY).

Additional information concerning this meeting may be obtained from Audrey Spivack or David Fiske, Office of Media Relations, (202) 418-0500; TTY 1-888-835-5322. Audio/Video coverage of the meeting will be broadcast live with open captioning over the Internet from the FCC's Audio/Video Events Web page at www.fcc.gov/realaudio.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
William F. Caton,
Deputy Secretary.

[FR Doc. 05-2684 Filed 2-8-05; 11:59 am]

BILLING CODE 6712-01-P